DEPARTMENT OF THE INTERIOR

Fish and Wildlife Service

50 CFR Part 17

RIN 1018-AE04

Endangered and Threatened Wildlife and Plants; Reclassification of Certain Vicuña Populations From Endangered to Threatened With a Special Rule; Technical Amendment

AGENCY: Fish and Wildlife Service, Interior.

ACTION: Final rule; technical amendment.

SUMMARY: This document amends the special rule for the vicuña (Vicugna vicugna), as published in the Federal Register on May 30, 2002. The May 30, 2002, special rule allows the importation into the United States of legal fiber and legal products produced with fiber from vicuña populations listed as threatened under the U.S. Endangered Species Act of 1973 (ESA) and in Appendix II of the Convention on International Trade in Endangered Species of Wild Fauna and Flora (CITES), if certain conditions are satisfied by the countries of origin and re-export. This document: (1) Corrects and clarifies the labeling requirements for legal vicuña fiber and fiber products; and (2) corrects an inadvertent typographical error in the section on annual reporting requirements.

DATES: This amendment to the special rule for vicuña is effective on March 29, 2005.

FOR FURTHER INFORMATION CONTACT: Mr. Robert R. Gabel, Chief, Division of Scientific Authority, U.S. Fish and Wildlife Service, 18th and C Streets, NW., Mail Stop ARLSQ-750, Washington, DC 20240; phone: 703-358-1708; fax: 703-358-2276; e-mail: scientificauthority@fws.gov.

SUPPLEMENTARY INFORMATION:

Background

On May 30, 2002, the U.S. Fish and Wildlife Service (Service), published a final rule (67 FR 37695) reclassifying the vicuña (Vicugna vicugna) in Argentina, Bolivia, Chile, and Peru from endangered to threatened under the ESA. The final rule also established a special rule (under section 4(d) of the ESA) allowing the importation into the United States of legal fiber and legal products produced with fiber from vicuña populations listed as threatened under the Act and in Appendix II of CITES, if certain conditions are satisfied by the exporting (range) or re-exporting country. This special rule is contained in 50 CFR 17.40(m).

The special rule contains errors in two paragraphs: (1) Paragraph (m)(2)(i)(A) on labeling requirements for legal vicuña fiber and fiber products; and (2) paragraph (m)(4)(i) on annual reporting requirements. With this technical amendment, we are correcting existing errors, as well as making changes to these paragraphs to clarify language that has been identified as unclear.

Paragraph (m)(2)(i)(A) addresses labeling requirements for legal vicuña fiber and fiber products. The special rule is perhaps not explicit enough in explaining that labeling requirements pertain to all imports, exports, and re-exports. We are amending paragraph (m)(2)(i)(A) to explicitly state that labeling requirements pertain to all imports, exports, and re-exports, including raw fiber re-exported from, or products manufactured in, intermediary countries.

Paragraph (m)(2)(i)(A)(1) specifies that cloth and cloth products must bear the logo adopted by countries signatory to the “Convenio para la Conservación y Manejo de la Vicuña,” and the words “VICUÑA-(Country of Origin)” (where country of origin is the name of the original exporting country where the vicuña fiber in the products originated, either Argentina, Bolivia, or Chile) or “VICUÑA-PERU-ARTESANIA” (for Peru only). However, the words “VICUÑA-PERU-ARTESANIA” have never been used to label cloth and cloth products from Peru. Peru uses the words “VICUÑA-PERU” for these products. We are amending paragraph (m)(2)(i)(A)(1) to reflect that only the words “VICUÑA-(Country of Origin)” are used for cloth and cloth products.

In addition, paragraph (m)(2)(i)(A)(1) does not specify how the logo and words must appear on the cloth or cloth product. We are amending paragraph (m)(2)(i)(A)(1) to clarify that the logo and words may be stitched into the cloth or may appear on a sewn-in label.

Finally, paragraph (m)(2)(i)(A)(1) does not explicitly state that the labeling requirement also pertains to samples of cloth or samples of cloth products, as well as to other manufactured goods not specifically covered in subsequent paragraphs. We are amending paragraph (m)(2)(i)(A)(1) to clarify that samples and other manufactured goods can be imported only if they meet the same requirements as cloth and cloth products.

Paragraph (m)(2)(i)(A)(2) describes the labeling requirements for finished vicuña products (including luxury handicrafts and knitted articles) and any bulk shipments of raw fiber. It specifies that finished vicuña products (including luxury handicrafts and knitted articles) and any bulk shipments of raw fiber must “have a seal or identification tag with codes describing the origin of the vicuña product, the trademark or label (“VICUÑA-(Country of Origin)” (where country of origin is the name of the original exporting country where the vicuña fiber in the products originated, either Argentina, Bolivia, or Chile) or “VICUÑA-PERU-ARTESANIA” (for Peru only), and the CITES export permit number, where country of origin is the name of the original exporting country where the vicuña fiber in the products originated.” However, as a result of a proposal adopted at the 10th Meeting of the Conference of the Parties to CITES, luxury handicrafts and knitted articles produced by native craftpersons within the country of origin should bear the label “VICUÑA-(Country of Origin)-ARTESANIA.” This label does not apply to all finished vicuña products, but only to luxury handicrafts and knitted articles made by native craftpersons in the country of origin. In addition, these products must have the logo adopted by countries signatory to the “Convenio para la Conservación y Manejo de la Vicuña.” We are amending paragraph (m)(2)(i)(A)(2) to reflect that only luxury handicrafts and knitted articles made in the country of origin can have the label “VICUÑA-(Country of Origin)-ARTESANIA,” and that these articles must also have the logo adopted by countries signatory to the “Convenio para la Conservación y Manejo de la Vicuña.” We are also amending paragraph (m)(2)(i)(A)(2) to clarify that the logo and words may be woven into the item or may appear on a sewn-in label.

In addition, paragraph (m)(2)(i)(A)(2) states that the shipment must have a seal or identification tag with codes describing the origin of the vicuña product and the CITES export permit number. It is not clear that this requirement pertains only to bulk shipments of raw fiber. We are amending the special rule, specifically by adding a new paragraph (m)(2)(i)(A)(3), to clarify that only bulk fiber shipments are subject to this requirement and to clarify the labeling information that is being required.

Paragraph (m)(4)(i) of the special rule describes the annual reporting requirement for range country governments wishing to export specimens of vicuña to the United States. In the list of types of information required in the annual report, we inadvertently labeled two paragraphs with the letter (E). Through this document, we are correcting the text in 50 CFR 17.40(m), paragraph (4)(i), to eliminate the duplicate (E) and to label each subparagraph in correct alphabetical order.

We are making no further amendments to the May 30, 2002, final rule.

Required Determinations

We have reviewed this rule under the following statutes and Executive Orders that govern the rulemaking process: Executive Order 12866 (Regulatory Planning and Review); Regulatory Flexibility Act (5 U.S.C. 601 et seq.); Small Business Regulatory Enforcement Fairness Act (5 U.S.C. 804(2)); Unfunded Mandates Reform Act (2 U.S.C. 1501 et seq.); Executive Order 12630 (Takings); Executive Order 13132 (Federalism); Executive Order 12988 (Civil Justice Reform); Paperwork Reduction Act of 1995 (44 U.S.C. 3501 et seq.); National Environmental Policy Act; Executive Order 13175 (Tribal Consultation) and 512 DM 2 (Government-to-Government Relationship With Tribes); and Executive Order 13211 (Energy Supply, Distribution, or Use). We have determined that this rule does not trigger any of the procedural requirements of these Executive Orders or statutes since this rule is only making technical corrections to the May 30, 2002, special rule.

We, for good cause, have determined that the public notice and comment provisions of the Administrative Procedure Act (APA) (5 U.S.C. 553(b)(3)(B)) are unnecessary for this rule because it is only making technical corrections to the May 30, 2002, special rule. Further delaying the correction of this rule by engaging in normal public procedure would be contrary to the public interest.

Under the APA, our normal practice is to publish rules with a 30-day delay in effective date. But in this case, we are using the “good cause” exemption under 5 U.S.C. 553(d)(3) to make this rule effective upon publication because it is only making technical corrections to the May 30, 2002, special rule and for the reason just stated above.

List of Subjects in 50 CFR Part 17

Endangered and threatened species, Exports, Imports, Reporting and recordkeeping requirements, Transportation.

Regulations Promulgation

Accordingly, the Service hereby amends § 17.40 by revising paragraph (m) to read as follows:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Amend §17.40 as follows:

a. Revise paragraph (m)(2)(i)(A) to read as follows; and

b. Redesignate the second paragraph (m)(4)(i)(E) and paragraphs (m)(4)(i)(F), (G), and (H) as paragraphs (m)(4)(i)(F), (G), (H) and (I), respectively.

§ 17.40 Special rules—mammals.

* * * * *

(m) * * *

(2) * * *

(i) * * *

(A) The vicuña product must comply with all CITES product annotations as given in the CITES Secretariat's official list of the CITES Appendices, and all imports, exports, and re-exports of vicuña products (including raw fiber re-exported from, or products manufactured in, intermediary countries) must be identified as follows:

(1) Cloth, cloth products, and other finished products (including luxury handicrafts and knitted articles not produced in the country of origin): The reverse side of cloth, cloth products, and other finished products (including luxury handicrafts and knitted articles not produced in the country of origin), and samples of any of these items, must bear the logo adopted by countries signatory to the “Convenio para la Conservación y Manejo de la Vicuña” and the words “VICUÑA—(Country of Origin),” where country of origin is the name of the country where the vicuña fiber in the products originated, either Argentina, Bolivia, Chile, or Peru. The logo and words may be woven into the item, or may be on a label sewn into the item.

(2) Luxury handicrafts and knitted articles produced in the country of origin: The luxury handicraft or knitted article must bear the logo adopted by countries signatory to the “Convenio para la Conservación y Manejo de la Vicuña” and the words “VICUÑA—(Country of Origin)—ARTESANIA,” where country of origin is the name of the country where the vicuña fiber in the products, and the products themselves, originated, either Argentina, Bolivia, Chile, or Peru. The logo and words may be woven into the item, or may be on a label sewn into the item.

(3) Bulk shipments of raw fiber: The bulk shipment of raw fiber must be sealed with a tamper-proof seal and have the following:

(i) An identification tag with a code identifying the country of origin of the vicuña fiber and the CITES export permit number; and

(ii) The logo adopted by countries signatory to the “Convenio para la Conservación y Manejo de la Vicuña” and the words “VICUÑA—(Country of Origin),” where country of origin is the name of the original exporting country where the vicuña fiber in the products originated, either Argentina, Bolivia, Chile, or Peru.

* * * * *

Dated: March 17, 2005.
Craig Manson,
Assistant Secretary for Fish and Wildlife and Parks.

[FR Doc. 05-6152 Filed 3-28-05; 8:45 am]

BILLING CODE 4310-55-P